DEPARTMENT OF TRANSPORTATION

Federal Aviation Administration

14 CFR Part 39

[Docket No. FAA-2006-23673; Directorate Identifier 2005-NM-233-AD]

RIN 2120-AA64

Airworthiness Directives; Empresa Brasileira de Aeronautica S.A. (EMBRAER) Model EMB-135 and EMB-145, -145ER, -145MR, -145LR, -145XR, -145MP, and -145EP Airplanes

AGENCY: Federal Aviation Administration (FAA), Department of Transportation (DOT).

ACTION: Notice of proposed rulemaking (NPRM).

SUMMARY: The FAA proposes to adopt a new airworthiness directive (AD) for all EMBRAER Model EMB-135 and EMB-145, -145ER, -145MR, -145LR, -145XR, -145MP, and -145EP airplanes. This proposed AD would require inspecting to determine the part number of the ailerons. For airplanes with affected aileron part numbers, this proposed AD would require reworking the aileron damper fitting. For certain airplanes, this proposed AD would also require replacing the rod end of the aileron damper assembly with an improved rod end. This proposed AD results from reports of structural failure of the rod end of the aileron damper, which was caused by insufficient clearance between the lugs of the aileron damper fitting and the rod end of the aileron damper. We are proposing this AD to prevent failure of the aileron damper, which could result in failure of the aileron actuator and consequent reduced controllability of the airplane.

DATES: We must receive comments on this proposed AD by February 24, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Empresa Brasileira de Aeronautica S.A. (EMBRAER), P.O. Box 343—CEP 12.225, Sao Jose dos Campos—SP, Brazil, for service information identified in this proposed AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

We invite you to submit any relevant written data, views, or arguments regarding this proposed AD. Send your comments to an address listed in the ADDRESSES section. Include the docket number “FAA-2006-23673; Directorate Identifier 2005-NM-233-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Departmento de Aviacao Civil (DAC), which is the airworthiness authority for Brazil, notified us that an unsafe condition may exist on all EMBRAER Model EMB-135 and EMB-145, -145ER, -145MR, -145LR, -145XR, -145MP, and -145EP airplanes. The DAC advises of reports indicating structural failure of the rod ends of the aileron damper. This failure has been attributed to insufficient clearance between the lugs of the aileron damper fitting and the rod end of the aileron damper. The insufficient clearance is associated with improper clearance between the rod end and its bearing race. A failed rod end is a hidden failure of the aileron damper. Flutter caused by failure of the aileron damper could result in failure of the aileron actuator. This condition, if not corrected, could result in reduced controllability of the airplane.

Relevant Service Information

EMBRAER has issued Service Bulletin 145-27-0108, Revision 01, dated April 28, 2005, which is effective for airplanes that are equipped with an affected aileron. The service bulletin describes procedures for reworking the aileron damper fitting on the left- and right-hand sides of the airplane. For aileron dampers with certain part numbers and serial numbers, the service bulletin also describes procedures for replacing the rod end of the aileron damper assembly with an improved rod end on the left- and right-hand sides of the airplane. Accomplishing the actions specified in the service information is intended to adequately address the unsafe condition. The DAC mandated the service information and issued Brazilian airworthiness directive 2005-10-04, dated November 17, 2005, to ensure the continued airworthiness of these airplanes in Brazil.

The EMBRAER service bulletin refers to Textron Service Bulletin 41012130-27-02, dated July 12, 2004, as an additional source of service information for replacing the rod end of the aileron damper assembly. The Textron service bulletin is included within the pages of the EMBRAER service bulletin.

FAA's Determination and Requirements of the Proposed AD

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. We have examined the DAC's findings, evaluated all pertinent information, and determined that we need to issue an AD for airplanes of this type design that are certificated for operation in the United States.

Therefore, we are proposing this AD, which would require accomplishing the actions specified in the service information described previously.

Costs of Compliance

The following table provides the estimated costs for U.S. operators to comply with this proposed AD.

Estimated Costs
Action | Work hours | Average labor rate per hour | Parts | Cost per airplane | Number of U.S.-registered airplanes | Fleet cost
Inspection for Part Number | 1 | $65 | None | $65 | 680 | $44,200.
Rework | 2 | 65 | Free | 130 | 680 | $88,400.
Replacement | 2 | 65 | Free | 130 | Up to 680 | Up to $88,400.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Empresa Brasileira de Aeronautica S.A. (EMBRAER): Docket No. FAA-2006-23673; Directorate Identifier 2005-NM-233-AD.

Comments Due Date

(a) The FAA must receive comments on this AD action by February 24, 2006.

Affected ADs

(b) None.

Applicability

(c) This AD applies to all EMBRAER Model EMB-135BJ, -135ER, -135KE, -135KL, and -135LR airplanes; and Model EMB-145, -145ER, -145MR, -145LR, -145XR, -145MP, and -145EP airplanes; certificated in any category.

Unsafe Condition

(d) This AD results from reports of structural failure of the rod end of the aileron damper, which was caused by insufficient clearance between the lugs of the aileron damper fitting and the rod end of the aileron damper. We are issuing this AD to prevent failure of the aileron damper, which could result in failure of the aileron actuator and consequent reduced controllability of the airplane.

Compliance

(e) You are responsible for having the actions required by this AD performed within the compliance times specified, unless the actions have already been done.

Part Number Determination

(f) Within 400 flight hours after the effective date of this AD: Inspect the ailerons on the left- and right-hand sides of the airplane to determine the part number (P/N). A review of airplane maintenance records is acceptable in lieu of this inspection if the P/N of the ailerons can be conclusively determined from that review.

(1) If the P/N of the aileron is not listed under “Affected components” in paragraph 1.A.(1) of EMBRAER Service Bulletin 145-27-0108, Revision 01, dated April 28, 2005: No further action is required by this AD for that aileron.

(2) If the P/N of the aileron is listed under “Affected components” in paragraph 1.A.(1) of EMBRAER Service Bulletin 145-27-0108, Revision 01, dated April 28, 2005: Do paragraph (g) of this AD.

Rework of Aileron Damper Fitting

(g) For any airplane equipped with an aileron having a P/N listed under “Affected components” in paragraph 1.A.(1) of EMBRAER Service Bulletin 145-27-0108, Revision 01, dated April 28, 2005: Within 400 flight hours after the effective date of this AD, rework the aileron damper fitting on the left- and right-hand sides of the airplane, in accordance with the Accomplishment Instructions of EMBRAER Service Bulletin 145-27-0108, Revision 01, dated April 28, 2005.

Replacement of the Rod End of the Aileron Damper Assembly

(h) For airplanes equipped with an aileron damper assembly having P/N 41012130-102, -103, or -104, and serial number 001 through 0712 inclusive: Within 400 flight hours after the effective date of this AD, replace the rod end of the aileron damper assembly, P/N 41011486-101, with an improved rod end, P/N 41011486-102, on the left- and right-hand sides of the airplane, in accordance with the Accomplishment Instructions of EMBRAER Service Bulletin 145-27-0108, Revision 01, dated April 28, 2005.

Note 1: EMBRAER Service Bulletin 145-27-0108, Revision 01, refers to Textron Service Bulletin 41012130-27-02, dated July 12, 2004, as an additional source of service information for replacing the rod end of the aileron damper assembly. The Textron service bulletin is included within the pages of the EMBRAER service bulletin.

Actions Accomplished Previously

(i) Actions accomplished before the effective date of this AD in accordance with EMBRAER Service Bulletin 145-27-0108, dated July 28, 2004, are acceptable for compliance with the corresponding actions required by this AD.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) Brazilian airworthiness directive 2005-10-04, dated November 17, 2005, also addresses the subject of this AD.

Issued in Renton, Washington, on January 17, 2006.
Ali Bahrami,
Manager, Transport Airplane Directorate, Aircraft Certification Service.

[FR Doc. E6-901 Filed 1-24-06; 8:45 am]

BILLING CODE 4910-13-P